DEPARTMENT OF VETERANS AFFAIRS

38 CFR Part 21

RIN 2900-AL79

Veterans Education: Non-Payment of VA Educational Assistance to Fugitive Felons

AGENCY: Department of Veterans Affairs.

ACTION: Final rule.

SUMMARY: This document amends Department of Veterans Affairs (VA) regulations to reflect a provision in the Veterans Education and Benefits Expansion Act of 2001 (Act). The Act contains a provision in section 505 that prohibits VA from awarding educational assistance allowance to individuals during any period that they are fugitive felons. Section 505 further prohibits payment of educational assistance allowance to a dependent of a veteran if the veteran is a fugitive felon. The prohibitions apply to the following VA educational assistance programs: Montgomery GI Bill-Active Duty, Post-Vietnam Era Veteran's Educational Assistance Program, and Survivors' and Dependents' Educational Assistance.

DATES: Effective Date: This final rule is effective May 16, 2005.

Applicability Date. The substantive changes made by this final rule are applied retroactively to December 27, 2001, to conform to statutory requirements.

FOR FURTHER INFORMATION CONTACT: Lynn M. Nelson, Education Advisor (225C), Department of Veterans Affairs, 810 Vermont Avenue, NW., Washington, DC 20420, (202) 273-7187.

SUPPLEMENTARY INFORMATION: Section 505 of the Veterans Education and Benefits Expansion Act of 2001, enacted December 27, 2001, prohibits the payment of educational assistance allowance to veterans who are fugitive felons. The Act further prohibits payment of educational assistance allowance to an otherwise eligible dependent of a veteran if the veteran or the dependent is a fugitive felon. The prohibitions apply to the following educational assistance programs.

• Montgomery GI Bill—Active Duty (MGIB), 38 U.S.C. chapter 30;

• Post-Vietnam Era Veteran's Educational Assistance Program (VEAP), 38 U.S.C. chapter 32; and

• Survivors' and Dependents' Educational Assistance (DEA), 38 U.S.C. chapter 35.

The amendments to the regulations include definitions for “fugitive felon” and “felony” as defined in the Act. VA expanded the definition of “fugitive felon” to show that individuals are identified as such by Federal, State, or local law enforcement officials. It is the law enforcement officials, and not VA, who identify an individual as a “fugitive felon.”

The amendments include rules showing that educational assistance allowance will be discontinued effective the later of December 27, 2001, or the date of the warrant for the arrest of the felon. In the case of a dependent, when the veteran from whom the dependent derives eligibility is the fugitive felon, the date of discontinuance is the later of December 27, 2001, or the date of the warrant for the arrest of the felon. Payment of educational assistance allowance to an otherwise eligible individual may begin effective the date the warrant is cleared. The rules are the same for each education program listed above.

Administrative Procedure Act

Changes made by this final rule merely reflect statutory requirements. Accordingly, this rule is exempt from the notice-and-comment and delayed-effective-date requirements of 5 U.S.C. 553.

Paperwork Reduction Act

This document contains no provisions constituting a collection of information under the Paperwork Reduction Act of 1995 (44 U.S.C. 3501-3521).

Unfunded Mandates

The Unfunded Mandates Reform Act of 1995 requires, at 2 U.S.C. 1532, that agencies prepare an assessment of anticipated costs and benefits before developing any rule that may result in an expenditure by State, local, or tribal governments, in the aggregate, or by the private sector, of $100 million or more (adjusted annually for inflation) in any given year. This final rule would have no such effect on State, local, or tribal governments, or the private sector.

Regulatory Flexibility Act

The Secretary of Veterans Affairs hereby certifies that this final rule will not have a significant economic impact on a substantial number of small entities as they are defined in the Regulatory Flexibility Act, 5 U.S.C. 601-612. This final rule will directly affect only individuals and will not directly affect small entities. Pursuant to 5 U.S.C. 605(b), this final rule, therefore, is exempt from the initial and final regulatory flexibility analyses requirements of sections 603 and 604.

Catalog of Federal Domestic Assistance Program Numbers

The Catalog of Federal Domestic Assistance numbers for the programs affected by this proposed rule are 64.117, 64.120, and 64.124.

List of Subjects in 38 CFR Part 21

Administrative practice and procedure, Armed forces, Civil rights, Claims, Colleges and universities, Conflict of interests, Education, Employment, Grant programs-education, Grant programs-veterans, Health care, Loan programs-education, Loan programs-veterans, Manpower training programs, Reporting and recordkeeping requirements, Schools, Travel and transportation expenses, Veterans, Vocational education, Vocational rehabilitation.

Approved: May 10, 2005.
R. James Nicholson,
Secretary of Veterans Affairs.

For the reasons set out in the preamble, 38 CFR part 21 (subparts C, D, and K) is amended as follows:

PART 21—VOCATIONAL REHABILITATION AND EDUCATION

Subpart C—Survivors' and Dependents' Educational Assistance Under 38 U.S.C. Chapter 35

1. The authority citation for part 21, subpart C continues to read as follows:

Authority: 38 U.S.C. 501(a), 512, 3500-3566, unless otherwise noted.

2. Amend § 21.3135 to add paragraph (j) immediately after the authority citation at the end of paragraph (i) to read as follows:

§ 21.3135 Reduction or discontinuance dates for awards of educational assistance allowance.

* * * * *

(j) Fugitive felons. (1) VA will not award educational assistance allowance to an otherwise eligible person for any period after December 26, 2001, during which the—

(i) Eligible person is a fugitive felon; or

(ii) Veteran from whom eligibility is derived is a fugitive felon.

(2) The date of discontinuance of an award of educational assistance allowance to an eligible person is the later of—

(i) The date of the warrant for the arrest of the felon; or

(ii) December 27, 2001.

(Authority: 38 U.S.C. 5313B)

Subpart D—Administration of Educational Assistance Programs

3. The authority citation for part 21, subpart D continues to read as follows:

Authority: 10 U.S.C. 2141 note, ch. 1606; 38 U.S.C. 501(a), chs. 30, 32, 34, 35, 36, unless otherwise noted.

4. Amend § 21.4131 to add paragraph (i) immediately after the authority citation at the end of paragraph (h) to read as follows:

§ 21.4131 Commencing dates.

* * * * *

(i) Fugitive felons. An award of educational assistance allowance to an otherwise eligible veteran or person will begin effective the date the warrant for the arrest of the felon is cleared by—

(1) Arrest;

(2) Surrendering to the issuing authority;

(3) Dismissal; or

(4) Court documents (dated after the warrant for the arrest of the felon) showing the individual is no longer a fugitive.

(Authority: 38 U.S.C. 5313B)

* * * * *

5. Amend § 21.4135 to add paragraph (n) immediately after the authority citation at the end of paragraph (m) to read as follows:

§ 21.4135 Discontinuance dates.

* * * * *

(n) Fugitive felons: veterans eligible under 38 U.S.C. chapter 32. VA will not award educational assistance allowance to an otherwise eligible veteran for any period after December 26, 2001, during which the veteran is a fugitive felon. The date of discontinuance of an award of educational assistance allowance to a veteran who is a fugitive felon is the later of—

(1) The date of the warrant for the arrest of the felon; or

(2) December 27, 2001.

(Authority: 38 U.S.C. 5313B)

* * * * *

6. Amend § 21.4200 to add and reserve paragraphs (ee) through (jj) immediately after the authority citation at the end of paragraph (dd) and to add paragraphs (kk) and (ll) to read as follows:

§ 21.4200 Definitions.

* * * * *

(ee)-(jj) [Reserved]

(kk) Fugitive felon. The term fugitive felon means an individual identified as such by Federal, State, or local law enforcement officials and who is a fugitive by reason of—

(1) Fleeing to avoid prosecution for an offense, or an attempt to commit an offense, which is a felony under the laws of the place from which the person flees;

(2) Fleeing to avoid custody or confinement after conviction for an offense, or an attempt to commit an offense, which is a felony under the laws of the place from which the person flees; or

(3) Violating a condition of probation or parole imposed for commission of a felony under Federal or State law.

(Authority: 38 U.S.C. 5313B)

(ll) Felony. The term felony means a major crime or offense defined as such under the law of the place where the offense was committed or under Federal law. It includes a high misdemeanor under the laws of a State which characterizes as high misdemeanors offenses that would be felony offenses under Federal law.

(Authority: 38 U.S.C. 5313B)

Subpart K—All Volunteer Force Educational Assistance Program (Montgomery GI Bill—Active Duty)

7. The authority citation for part 21, subpart K continues to read as follows:

Authority: 38 U.S.C. 501(a), chs. 30, 36, unless otherwise noted.

8. Amend § 21.7020 to add and reserve paragraphs (b)(52) through (b)(55) immediately after the authority citation at the end of paragraph (b)(51) and to add paragraphs (b)(56) and (b)(57) to read as follows:

§ 21.7020 Definitions.

* * * * *

(b) * * *

(52)-(55) [Reserved]

(56) Fugitive felon. The term fugitive felon has the same meaning as provided in § 21.4200(kk).

(Authority: 38 U.S.C. 5313B)

(57) Felony. The term felony has the same meaning as provided in § 21.4200(ll).

(Authority: 38 U.S.C. 5313B)

9. Amend § 21.7131 to add paragraph (q) immediately after the information collection requirement approval parenthetical at the end of paragraph (p) to read as follows:

§ 21.7131 Commencing dates.

* * * * *

(q) Fugitive felons. (1) An award of educational assistance allowance to an otherwise eligible veteran may begin effective the date the warrant for the arrest of the felon is cleared by—

(i) Arrest;

(ii) Surrendering to the issuing authority;

(iii) Dismissal; or

(iv) Court documents (dated after the warrant) showing the veteran is no longer a fugitive.

(2) An award of educational assistance allowance to a dependent who is otherwise eligible to transferred entitlement may begin effective the date the warrant is cleared by—

(i) Arrest;

(ii) Surrendering to the issuing authority;

(iii) Dismissal; or

(iv) Court documents (dated after the warrant) showing the individual is no longer a fugitive.

(Authority: 38 U.S.C. 5313B)

10. Amend § 21.7135 to add paragraph (aa) immediately after the authority citation at the end of paragraph (z) to read as follows:

§ 21.7135 Discontinuance dates.

* * * * *

(aa) Fugitive felons. (1) VA will not award educational assistance allowance to an otherwise eligible veteran for any period after December 26, 2001, during which the veteran is a fugitive felon. The date of discontinuance of an award of educational assistance allowance to a veteran who is a fugitive felon is the later of—

(i) The date of the warrant for the arrest of the felon; or

(ii) December 27, 2001.

(2) VA will not award educational assistance allowance to a dependent who is otherwise eligible to transferred entitlement if the dependent is a fugitive felon or if the veteran who transferred the entitlement is a fugitive felon. The date of discontinuance of an award of educational assistance allowance to a dependent is the later of—

(i) The date of the warrant; or

(ii) December 27, 2001.

(Authority: 38 U.S.C. 5313B)

* * * * *

[FR Doc. 05-9733 Filed 5-13-05; 8:45 am]

BILLING CODE 8320-01-P